DEPARTMENT OF THE INTERIOR

National Park Service

[NPS-WASO-NAGPRA-NPS0039179; PPWOCRADN0-PCU00RP14.R50000]

Notice of Intended Repatriation: Western Washington University, Department of Anthropology, Bellingham, WA

AGENCY: National Park Service, Interior.

ACTION: Notice.

SUMMARY: In accordance with the Native American Graves Protection and Repatriation Act (NAGPRA), the Western Washington University, Department of Anthropology (WWU), intends to repatriate certain cultural items that meet the definition of objects of cultural patrimony and that have a cultural affiliation with the Indian Tribes or Native Hawaiian organizations in this notice.

DATES: Repatriation of the cultural items in this notice may occur on or after January 13, 2025.

ADDRESSES: Dr. Judith Pine, Western Washington University, Department of Anthropology, Arntzen Hall 340, 516 High Street, Bellingham, WA 98225, telephone (360) 650-4783, email pinej@wwu.edu.

SUPPLEMENTARY INFORMATION: This notice is published as part of the National Park Service's administrative responsibilities under NAGPRA. The determinations in this notice are the sole responsibility of the WWU, and additional information on the determinations in this notice, including the results of consultation, can be found in the summary or related records. The National Park Service is not responsible for the determinations in this notice.

Abstract of Information Available

A total of five cultural items have been requested for repatriation.

The four objects of cultural patrimony are one net weight, one ground shell, one incised stone, and one adze blade. In 1982, Western Washington University entered a contract with the Bureau of Indian Affairs to conduct a cultural resource survey of selected portions of the Swinomish Indian Reservation, Skagit County, Washington. Both sites, 45-SK-32 and 45-SK-91, are located adjacent to the Swinomish Slough within the boundaries of the Swinomish Reservation. Materials were collected by excavation of four 1x2 meter test cuts (Chesmore 1984, A Cultural Resource Survey and Test Excavations of Selected Portions of the Swinomish Indian Reservation, Skagit County, Washington, Contract No. 2P10-0100515 with the Bureau of Indian Affairs, Reports in Archaeology No. 22, Department of Anthropology, Western Washington University, Bellingham, Washington).

The one object of cultural patrimony is a worked bone point. The materials described in this notice were collected in the spring of 2003 as part of a collaborative effort between Dr. Sarah Campbell and field school students from WWU, Equinox Research and Consulting International, Inc. (ERCI) and the Samish Indian Nation to mitigate erosion of a cut bank on Weaverling Spit. An area approximately 150 m long between a jetty for a private residence and a field south of the Cove at Fidalgo Condominium property was examined. The crew excavated eight shovel tests, faced, and profiled the bank in six locations and collected column samples from two locations. During this work, two burials were observed eroding out of the bank in front of the condominiums. Human remains were also observed and collected beneath the bank on the beach. All these remains were repatriated to the Samish Indian Nation (Nelson, 2006).

No hazardous chemicals are known to have been used to treat the items while in the custody of WWU.

Determinations

The WWU has determined that:

• The five objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Samish Indian Nation and the Swinomish Indian Tribal Community.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 13, 2025. If competing requests for repatriation are received, the WWU must determine the most appropriate requestor prior to repatriation. Requests for joint repatriation of the cultural items are considered a single request and not competing requests. The WWU is responsible for sending a copy of this notice to the Indian Tribes and Native Hawaiian organizations identified in this notice and to any other consulting parties.

Authority: Native American Graves Protection and Repatriation Act, 25 U.S.C. 3004 and the implementing regulations, 43 CFR 10.9.

Dated: December 4, 2024.
Melanie O'Brien,
Manager, National NAGPRA Program.

[FR Doc. 2024-29255 Filed 12-11-24; 8:45 am]

BILLING CODE 4312-52-P